DEPARTMENT OF LABOR

Employment and Training Administration

[TA-W-85,145]

AXA Equitable Life Insurance Company, a Subsidiary of AXA Financial, Inc., Including On-Site Leased Workers of Kelly Services, Charlotte, North Carolina; Notice of Negative Determination Regarding Application for Reconsideration

By application dated May 5, 2014, a worker requested administrative reconsideration of the Department of Labor's negative determination regarding eligibility to apply for worker adjustment assistance, applicable to workers and former workers of AXA Equitable Life Insurance Company, a subsidiary of AXA Financial, Inc., Charlotte, North Carolina (subject firm). The Department's Notice of determination was published in the Federal Register on May 5, 2014 (79 FR 25625).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative determination was based on the Department's findings that the subject firm does not produce an article, within the meaning of the Trade Act of 1974, as amended.

The request for reconsideration stated that services supplied by the subject workers shifted to a foreign country.

The petitioner did not supply facts not previously considered; nor provide additional documentation indicating that there was either (1) a mistake in the determination of facts not previously considered or (2) a misinterpretation of facts or of the law justifying reconsideration of the initial determination. Based on these findings, the Department determines that 29 CFR 90.18(c) has not been met.

Conclusion

After careful review of the application and investigative findings, I conclude that there has been no error or misinterpretation of the law or of the facts which would justify reconsideration of the Department of Labor's prior decision. Accordingly, the application is denied.

Signed in Washington, DC, this 15th day of May, 2014.
Del Min Amy Chen,
Certifying Officer, Office of Trade Adjustment Assistance.

[FR Doc. 2014-12054 Filed 5-23-14; 8:45 am]

BILLING CODE 4510-FN-P